DEPARTMENT OF COMMERCE

International Trade Administration

[A-357-816]

Notice of Final Determination of Sales at Less Than Fair Value and Negative Final Determination of Critical Circumstances: Certain Cold-Rolled Carbon Steel Flat Products From Argentina

AGENCY: Import Administration, International Trade Administration, Department of Commerce.

ACTION: Notice of final determination of sales at less than fair value and negative final determination of critical circumstances.

SUMMARY: We determine that certain cold-rolled carbon steel flat products from Argentina are being, or are likely to be, sold in the United States at less than fair value, as provided in section 731 of the Tariff Act of 1930, as amended. In addition, we determine that critical circumstances do not exist for import of cold-rolled carbon steel flat products from Argentina.

We gave interested parties an opportunity to comment on the preliminary determination. Based on our analysis of the comments received, we have made certain changes for the final determination.

EFFECTIVE DATE: October 3, 2002.

FOR FURTHER INFORMATION CONTACT: Dave Dirstine, Import Administration, International Trade Administration, U.S. Department of Commerce, 14th Street and Constitution Avenue, NW, Washington, DC 20230; telephone: (202) 482-4033.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department of Commerce (Department's) regulations are to the regulations codified at 19 CFR part 351 (April 2001).

Background

On May 9, 2002, the Department published its preliminary determination in the above-captioned antidumping duty investigation. See Notice of Preliminary Determination of Sales at Less Than Fair Value, Postponement of Final Determination and Negative Preliminary Determination of Critical Circumstances: Certain Cold-Rolled Carbon Steel Flat Products From Argentina, 67 FR 31181 (May 9, 2002) (Preliminary Determination). See also Notice of Initiation of Antidumping Duty Investigations: Certain Cold-Rolled Carbon Steel Flat Products From Argentina, Australia, Belgium, Brazil, France, Germany, India, Japan, Korea, the Netherlands, New Zealand, the People's Republic of China, the Russian Federation, South Africa, Spain, Sweden, Taiwan, Thailand, Turkey and Venezuela, 66 FR 54198 (October 26, 2001) (Initiation Notice).

Since the Preliminary Determination, the following events have occurred. On June 18, 2002, and July 29, 2002, the Department conducted a home-market sales verification and a U.S. sales verification, respectively, using standard verification procedures. Our verification results are outlined in the public versions of the verification reports (see home-market verification report dated July 26, 2002, and U.S. sales verification report from analysts to file, dated August 13, 2002).

We gave interested parties an opportunity to comment on the Preliminary Determination. On August 26, 2002, the petitioners ¹ submitted their case brief. Siderar S.A.I.C. (Siderar), respondent in this investigation, also submitted its case brief on August 26, 2002. The petitioners and Siderar submitted their rebuttal briefs on September 3, 2002. Siderar did not request a hearing. The petitioners submitted a request for a hearing on June 10, 2002, but withdrew their request on September 4, 2002.

¹ The petitioners in the concurrent antidumping duty investigations are Bethlehem Steel Corporation, LTV Steel Company, National Steel Corporation, Nucor Corporation, Steel Dynamics, Inc., United States Steel LLC, WCI Steel, Inc., and Weirton Steel Corporation. Weirton Steel Corporation is not a petitioner in the Netherlands case. Effective January 1, 2002, the party previously known as “United States Steel LLC” changed its name to “United States Steel Corporation.”

With respect to scope, in the preliminary LTFV determinations in this and the companion cold-rolled steel investigations, the Department preliminarily excluded certain porcelain enameling steel from the scope of these investigations. See Scope Appendix to the Notice of Preliminary Determination of Sales at Less Than Fair Value: Certain Cold-Rolled Carbon Steel Flat Products from Argentina, 67 FR 31181 (May 9, 2002) (Scope Appendix—Argentina Preliminary LTFV Determination). On June 13, 2002, we issued a preliminary decision on the remaining 75 scope-exclusion requests filed in a number of the on-going cold-rolled steel investigations (see the June 13, 2002, memorandum regarding “Preliminary Scope Rulings in the Antidumping Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea” (Preliminary Scope Rulings), which is on file in the Department's Central Records Unit (CRU), room B-099 of the main Department building). We gave parties until June 20, 2002, to comment on the preliminary scope rulings and until June 27, 2002, to submit rebuttal comments. We received comments and/or rebuttal comments from the petitioners and respondents from various countries subject to these investigations of cold-rolled steel. In addition, on June 13, 2002, North American Metals Company (an interested party in the Japan proceeding) filed a request that the Department issue a “correction” for an already-excluded product. On July 8, 2002, the petitioners objected to this request.

At the request of multiple respondents, the Department held a public hearing with respect to the Preliminary Scope Rulings on July 1, 2002. The Department's final decisions on the scope-exclusion requests are addressed in the Scope of Investigation section below.

Scope of Investigation

For purposes of this investigation, the products covered are certain cold-rolled (cold-reduced) flat-rolled carbon-quality steel products. A full description of the scope of this investigation is contained in the Scope Appendix attached to the Notice of Correction to Final Determination of Sales at Less Than Fair Value: Certain Cold-Rolled Carbon Steel Flat Products from Australia, 67 FR 52934 (Aug. 14, 2002). For a complete discussion of the comments received on the Preliminary Scope Rulings, see the memorandum regarding “Issues and Decision Memorandum for the Final Scope Rulings in the Antidumping Duty Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea,” dated July 10, 2002, which is on file in the CRU.

Critical Circumstances

In letters filed on December 7, 2001, and January 14, 2002, the petitioners alleged that there is a reasonable basis to believe or suspect that critical circumstances exist with respect to imports of cold-rolled steel from Argentina and other countries. On May 9, 2002, the Department published in the Federal Register its preliminary determination that critical circumstances do not exist for imports of cold-rolled steel from Argentina. See Preliminary Determination and critical-circumstances memorandum from Richard W. Moreland to Faryar Shirzad, dated April 26, 2002 (Preliminary Negative Determinations of Critical Circumstances—Argentina). A public version of this memorandum is on file in the CRU.

We received no comments from the petitioners or the respondent regarding our preliminary finding that critical circumstances do not exist for imports of cold-rolled steel from Argentina. We have not changed our determination and continue to find that critical circumstances do not exist for imports of cold-rolled steel from Argentina.

Analysis of Comments Received

All issues raised in the case and rebuttal briefs by parties to this investigation are addressed in the “Issues and Decision Memorandum” (Decision Memo) from Richard W. Moreland, Deputy Assistant Secretary, to Faryar Shirzad, Assistant Secretary, dated September 23, 2002, which is hereby adopted by this notice. A list of the issues which parties have raised and to which we have responded, all of which are in the Decision Memo, is attached to this notice as an Appendix. This Decision Memo, which is a public document, is on file in the CRU and is accessible on the Web at http://ia.ita.doc.gov/frn. The paper copy and electronic version of the Decision Memo are identical in content.

Changes Since the Preliminary Determination

Our calculations followed the methodologies described in the Preliminary Determination, except as noted below, and in the September 23, 2002, Decision Memo and final determination analysis memorandum.

We obtained missing unreported slitting-cost information at verification and have applied partial adverse facts available as advocated by the petitioners. See our response to Comment 2 of the Decision Memo.

We used depreciation adjustment data presented by the respondent to correct minor errors in its response on the first day of verification and we have not applied partial adverse facts available as asserted by the petitioners. See our response to Comment 3 of the Decision Memo.

We revised the interest expense and general and administrative expenses based on information we obtained at verification. See our response to Comment 4 of the Decision Memo.

For the Preliminary Determination we found one level of trade in the U.S. market and one level of trade in the home market. For this final determination, we found that there were two home-market levels of trade—a distributor level of trade and an end-user (or original equipment manufacturer) level of trade. We continue to find one level of trade in the U.S. market. In addition, we made a level-of-trade adjustment to normal value for export-price sales of one model for which there were no sales on the same level of trade in the home market. See our response to Comment 5 of the Decision Memo.

Suspension of Liquidation

In accordance with section 735(c)(1)(B) of the Act, we are directing the Customs Service (Customs) to continue to suspend liquidation of all imports of subject merchandise that are entered, or withdrawn from warehouse, for consumption on or after May 9, 2002, the date of publication of the Preliminary Determination in the Federal Register. Customs shall continue to require a cash deposit or the posting of a bond equal to the weighted-average amount by which the normal value exceeds the U.S. price, as indicated in the chart below. These suspension-of-liquidation instructions will remain in effect until further notice. The weighted-average dumping margins are as follows:²

² As Siderar was the only respondent in this investigation, we used Siderar's margin as the all-others rate.

>
Exporter/manufacturer | Weighted-average margin percentage
Siderar | 27.18
All Others | ² 27.18

International Trade Commission Notification

In accordance with section 735(d) of the Act, we have notified the International Trade Commission (ITC) of our determination. As our final determination is affirmative, the ITC will determine within 45 days whether these imports are causing material injury, or threat of material injury, to an industry in the United States. If the ITC determines that material injury, or threat of injury does not exist, the proceeding will be terminated and all securities posted will be refunded or cancelled. If the ITC determines that such injury does exist, the Department will issue an antidumping duty order.

Notification Regarding Administrative Protective Order (APO)

This notice serves as a reminder to parties subject to APO of their responsibility concerning the disposition of proprietary information disclosed under APO in accordance with 19 CFR 351.305. Timely notification of return/destruction of APO materials or conversion to judicial protective order is hereby requested. Failure to comply with the regulations and the terms of an APO is a sanctionable violation.

This determination is published pursuant to sections 735(d) and 777(i)(1) of the Act.

Dated: September 23, 2002.
Faryar Shirzad,
Assistant Secretary for Import Administration.

Appendix—Comments and Responses

1. Indirect Tax Rebates (Reintegro)

2. Missing Production Costs at One Plant

3. Failure to Provide Depreciation Costs

4. Revision of Interest Expenses and General and Administrative (G&A) Costs

5. Level of Trade

[FR Doc. 02-24802 Filed 10-2-02; 8:45 am]

BILLING CODE 3510-DS-P